CHEMICAL SAFETY AND HAZARD INVESTIGATION BOARD

Sunshine Act Meetings

TIME AND DATE:

Thursday, December 11, 2025, 2:00 p.m. ET (2 hours).

Thursday, March 19, 2026, 2:00 p.m. ET (2 hours).

Thursday, June 18, 2026, 2:00 p.m. ET (2 hours).

Thursday, September 17, 2026, 2:00 p.m. ET (2 hours).

PLACE: The meetings will be held virtually via TEAMS. Links are below and will be available at: www.csb.gov.

Thursday, December 11, 2025, 2:00 p.m. ET (2 hours): https://teams.microsoft.com/l/meetup-join/19%3ameeting_ODRhYjg1NmMtZGFiMS00NGNlLTkzYmItY2FhNmRmNzM2OGVi%40thread.v2/0?context=%7b%22Tid%22%3a%225dbf088c-c61b-466d-9e99-ec13ccacc1c6%22%2c%22Oid%22%3a%223b91a5e8-39f6-45ec-9457-d78797dbe909%22%7d

Thursday, March 19, 2026, 2:00 p.m. ET (2 hours): https://teams.microsoft.com/l/meetup-join/19%3ameeting_YThmNjE1OTQtNzIxYi00ZTYwLWI2NjctZjc3ZWNjNzI1ZDE5%40thread.v2/0?context=%7b%22Tid%22%3a%225dbf088c-c61b-466d-9e99-ec13ccacc1c6%22%2c%22Oid%22%3a%223b91a5e8-39f6-45ec-9457-d78797dbe909%22%7d

Thursday, June 18, 2026, 2:00 p.m. ET (2 hours): https://teams.microsoft.com/l/meetup-join/19%3ameeting_NDRlMjVkY2MtZTA1Yy00ZWQ4LTlmYmQtOGNiZGU2NDU5YzI5%40thread.v2/0?context=%7b%22Tid%22%3a%225dbf088c-c61b-466d-9e99-ec13ccacc1c6%22%2c%22Oid%22%3av%223b91a5e8-39f6-v45ec-9457-d78797dvbe909%22%7d

Thursday, September 17, 2026, 2:00 p.m. ET (2 hours): https://teams.microsoft.com/l/meetup-vjoin/19%3ameeting_ODJhODliZDQtNGU1Yy00YTExLWE0MzctNzk0ZWMzODUwZTI3%40thread.v2/0?context=%7b%22Tid%22%3a%225dbf088c-c61b-466d-9e99-ec13ccacc1c6%22%2c%22Oid%22%3a%223b91a5e8-39f6-45ec-9457-d78797dbe909%22%7d

STATUS: Open to the public.

MATTERS TO BE CONSIDERED: The Chemical Safety and Hazard Investigation Board (CSB) will convene public meetings on December 11, 2025; March 19, 2026; June 18, 2026; and, September 17, 2026, at 2:00 p.m. ET. These meetings serve to fulfill the CSB's requirement to hold a minimum of four public meetings for Fiscal Year 2026 pursuant to 40 CFR 1600.5(c). The Board will review the CSB's progress in meeting its mission and as appropriate highlight safety products newly released through investigations and safety recommendations.

CONTACT PERSON FOR FURTHER INFORMATION: Hillary Cohen, Communications Manager, at public@csb.gov or (202) 446-8094. Further information about these public meetings can be found on the CSB website at: www.csb.gov.

Additional Information

Background

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation

The meetings are free and open to the public. These meetings will only be available via ZOOM. Close captions (CC) will be provided. At the close of each meeting, there will be an opportunity for public comment. To submit public comments for the record please email the agency at public@csb.gov.

Dated: November 21, 2025.
Steven Messer,
Acting General Counsel, Chemical Safety and Hazard Investigation Board.

[FR Doc. 2025-21085 Filed 11-21-25; 4:15 pm]

BILLING CODE 6350-01-P